Proclamation 8071 of October 13, 2006

National Forest Products Week, 2006

By the President of the United States of America

A Proclamation

During National Forest Products Week, we take time to appreciate the natural splendor of our country's forests and acknowledge the importance of these woodlands to our economic and environmental vitality. It is also an opportunity to renew our commitment to conserving our natural resources and to using them responsibly.

Our forests are important to our economic well-being, supplying products that drive our economy and create jobs and opportunities.

America's forests are also an important part of our Nation's natural beauty, and we must continue to conserve and use these resources in a manner that preserves them for future generations. My Administration is committed to protecting our forests and woodlands against fire damage. Through the Healthy Forests Initiative, we have reduced the danger of fires by removing hazardous fuels from millions of acres of Federal land, making communities safer from catastrophic fire and improving wildlife habitat.

Recognizing the “importance and heritage of our vast forest resources which are inseparably tied to our present and our future,” the Congress, by Public Law 86-753 (36 U.S.C. 123), as amended, has designated the week beginning on the third Sunday in October of each year as “National Forest Products Week” and has requested the President to issue a proclamation in observance of this week.

NOW, THEREFORE, I, GEORGE W. BUSH, President of the United States of America, do hereby proclaim October 15 through October 21, 2006, as National Forest Products Week. I call upon all Americans to observe this week with appropriate ceremonies and activities.

IN WITNESS WHEREOF, I have hereunto set my hand this thirteenth day of October, in the year of our Lord two thousand six, and of the Independence of the United States of America the two hundred and thirty-first.

[FR Doc. 06-8808

Filed 10-17-06; 8:45 am]

Billing code 3195-01-P